DEPARTMENT OF ENERGY

Federal Energy Regulatory Commission

[Project No. 503-048]

Idaho Power Company; Notice of Application Ready for Environmental Analysis and Soliciting Comments, Recommendations, Terms and Conditions, and Prescriptions

June 16, 2009.

Take notice that the following hydroelectric application has been filed with the Commission and is available for public inspection.

a. Type of Application: New license.

b. Project No.: 503-048.

c. Date filed: June 26, 2008.

d. Applicant: Idaho Power Company.

e. Name of Project: Swan Falls Project.

f. Location: On the Snake River in Ada and Owyhee counties, Idaho, about 35 miles southwest of Boise. The project occupies federal lands administered by the Bureau of Land Management.

g. Filed Pursuant to: Federal Power Act 16 USC 791 (a)-825(r).

h. Applicant Contact: Mr. Rex Blackburn, Senior Vice President and General Counsel, Idaho Power Company, P.O. Box 70, Boise, Idaho, 83707, rblackburn@idahopower.com.

i. FERC Contact: Jim Puglisi, (202) 502-6241, james.puglisi@ferc.gov.

j. Deadline for filing comments, recommendations, terms and conditions, and prescriptions is 60 days from the issuance of this notice; reply comments are due 105 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See CFR 385.2001(a)(1)(iii) and the instructions on the Commission's Web site (http://www.ferc.gov/docs-filing/ferconline.asp) under the “e-filing” link. For a simpler method of submitting text only comments, click on “Quick Comment.”

k. This application has been accepted, and is ready for environmental analysis at this time.

l. The project consists of: (1) A 1,218-foot-long concrete gravity and rock-fill dam composed of an abutment embankment, a spillway section, a center island, the old powerhouse section, the intermediate dam, and the new powerhouse; (2) a 12-mile-long 1,525-acre reservoir with a normal maximum water surface elevation of 2,314 feet mean sea level (msl); (3) twelve equal-width, concrete spillways with a capacity of 105,112 cubic feet per second (cfs) at reservoir elevation 2,318 msl, divided into two sections (western and eastern)—the western section, contiguous with the abutment embankment, is a gated, concrete ogee section with eight radial gates, and the eastern section, which is adjacent to the island, contains four radial gates; (4) two concrete flow channels; (5) two pit-bulb turbine generators with a nameplate rating of 25 MW; (6) a powerhouse completed in 1994; (7) a 1,400-foot-long, 120-foot-wide excavated tailrace channel; (8) a 33,600-kilovolt ampere (kVA) main power transformer; (9) a 1-mile-long, 138-kilovolt (kV) transmission line; and (10) appurtenant equipment. The estimated average annual energy production from the project is about 125,720 megawatt-hours (MWh), with an average monthly generation ranging from 8,740 MWh in June to 11,750 MWh in January. The applicant proposes to continue the run-of-river operations of the project with a minor change to the minimum flow regime and continuation of the existing ramping rate restrictions. The applicant also proposes a net reduction in the acreage within the project boundary.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

n. A license applicant must file no later than 60 days following the date of issuance of this notice: (1) A copy of the water quality certification; (2) a copy of the request for certification, including proof of the date on which the certifying agency received the request; or (3) evidence of waiver of water quality certification.

Kimberly D. Bose,
Secretary.

[FR Doc. E9-14652 Filed 6-22-09; 8:45 am]

BILLING CODE 6717-01-P